DEPARTMENT OF THE INTERIOR

Bureau of Land Management

[LLMT924000 L14400000.FR0000 20XL1109AF; MO# 4500150792; MTM-108489]

Initial Classification for State In Lieu Selection and Notice of Termination of Proposed Classification, Montana

AGENCY: Bureau of Land Management, Interior.

ACTION: Notice of classification.

SUMMARY: The Montana Department of Natural Resources and Conservation (State) has filed a petition for classification and application to obtain public land and mineral estate in lieu of lands to which the State was entitled but did not receive under its Statehood Act. This classification, made under Section 7 of the Taylor Grazing Act of June 8, 1934, satisfies in full the obligation to the State. This notice also terminates the classification of lands included in the State's application that are not needed to fulfill the obligation.

DATES: Written comments requesting administrative review regarding the initial classification of lands and minerals may be submitted to the Secretary of the Interior on or before February 22, 2021. In the absence of any requests for administrative review, this initial classification will become final on February 22, 2021. Lands not needed to fulfill the obligation will be opened to the operation of the public land laws on February 22, 2021.

ADDRESSES: Requests for administrative review may be submitted to the Secretary of the Interior, 1849 C Street NW, c/o Bureau of Land Management HQ-300, Washington, DC 20240. Electronic mail, facsimile, or telephone requests will not be accepted.

FOR FURTHER INFORMATION CONTACT: Jim Ledger, Branch of Lands, Realty, and Renewable Energy, telephone: (406) 329-3733, email: jledger@blm.gov. Persons who use a telecommunications device for the deaf may call the Federal Relay Service (FRS) at 1-800-877-8339 to leave a message or question. The FRS is available 24 hours a day, 7 days a week. You will receive a reply during normal business hours.

SUPPLEMENTARY INFORMATION: Sections 2275 and 2276 of the Revised Statutes, as amended (43 U.S.C. 851 and 852), provide authority for the State of Montana to receive title to public land in lieu of lands to which it was entitled under the Enabling Act of 1889 (25 Stat. 676).

Section 7 of the Taylor Grazing Act of June 8, 1934, (43 U.S.C. 315 et seq.) requires that such public land and/or minerals identified for proposed transfer out of Federal ownership under this authority must first be classified. The Bureau of Land Management (BLM) is classifying these lands and minerals pursuant to 43 CFR 2400 and Section 7 of the Taylor Grazing Act of June 8, 1934. The BLM has completed a review and environmental analysis (EA) on a portion of the lands included in the proposed classification dated October 17, 2016 (81 FR 71529), extended by the notice published November 15, 2017 (82 FR 52937), and is hereby classifying 5,816.63 acres as suitable for conveyance. The EA considered a number of issues, including public access, in accordance with Secretary's Order 3373 and resulted in a Finding of No Significant Impact.

For a period of 30 days from the date of publication of this notice, this Initial Classification is subject to the exercise of administrative review and modification by the Secretary of the Interior as provided for under 43 CFR 2461.3. All persons who wish to request the Secretary of the Interior conduct an administrative review of the finding that these lands are suitable for conveyance to the State may present their views to the address given in the ADDRESSES section earlier. Electronic mail, facsimile, or telephone requests will not be accepted. Requests for administrative review will be evaluated by the Secretary of the Interior, or his/her delegate, who will issue a notice of determination to proceed with, modify, or cancel this Initial Classification.

Before including your address, phone number, email address, or other personally identifiable information in any comment, be aware that your entire comment—including your personally identifiable information—may be made publicly available at any time. While you can ask the BLM in your comment to withhold your personally identifiable information from public review, we cannot guarantee that we will be able to do so.

The selected lands/minerals affected by this classification are in Custer, Prairie, and Richland Counties, Montana, and described as follows:

Principal Meridian, Montana

T. 5 N., R. 46 E.,

sec. 24, E1/2.

T. 4 N., R. 47 E.,

sec. 6;

sec. 8, NW1/4NE1/4, SE1/4NE1/4, N1/2NW1/4, and NE1/4SE1/4.

T. 12 N., R. 50 E.,

sec. 14; lots 1 thru 4, S1/2SW1/4, and S1/2SE1/4.

T. 12 N., R. 52 E.,

sec. 3, lots 1, 2, and 3;

sec. 5;

sec. 6, lots 2 thru 7, S1/2NE1/4, SE1/4NW1/4, E1/2SW1/4, and SE1/4;

sec. 7, lots 1 thru 7, NW1/4NE1/4, and E1/2NW1/4;

sec. 8, lots 1, 2, and 3.

T. 13 N., R. 52 E.,

sec. 29, E1/2SE1/4SW1/4, E1/2NW1/4SE1/4SW1/4, E1/2SW1/4SE1/4SW1/4, and S1/2SE1/4;

sec. 30, S1/2SW1/4 and S1/2SE1/4;

sec. 33, lots 5, 6, and 7.

T. 26 N., R. 55 E.

sec. 1, lot 4;

sec. 2, lots 1 and 2, and SW1/4NE1/4.

T. 27 N., R. 56 E.,

sec. 7, lots 7 thru 12, SE1/4SW1/4, and S1/2SE1/4;

sec. 8, lot 12 and S1/2SW1/4;

sec. 9, lots 3, 4, and 5, SE1/4SW1/4, and SW1/4SE1/4;

sec. 17, E1/2, N1/2NW1/4, SW1/4NW1/4, and SW1/4;

sec. 18, lots 1 thru 4, NE1/4, E1/2NW1/4, SE1/4SW1/4, and SE1/4;

sec. 22, NE1/4NE1/4, SW1/4NW1/4, and W1/2SW1/4.

The areas described aggregate 5,816.63 acres.

The BLM has examined the lands described above for evidence of valid existing rights and any constraints that would prevent conveyance. No persons other than holders of leases, permits, and rights-of-way, asserted a claim to, or interest in, the lands proposed for classification.

When the selection is certified to the State, the document transferring title will contain the following reservation to the United States:

1. A right-of-way thereon for ditches and canals constructed by the authority of the United States, pursuant to the Act of August 30, 1890 (43 U.S.C. 945).

The title will also be taken subject to:

2. A right-of-way for County Road No. 152, administered by Richland County, pursuant to the provisions of Revised Statute 2477 (43 U.S.C. 932), lying over, across, and upon a strip of land located in lots 7, 8, and 12, Section 7, and lot 12, Section 8, T. 27 N., R. 56 E, Principal Meridian, Montana.

3. A railroad and telegraph and other appurtenant rights, granted under the Act of July 2, 1864 (13 Stat. 365) to the Northern Pacific Railroad Company, its successors or assigns, lying over, across, and upon a strip of land located in the S1/2SE1/4, Section 14, T. 12 N., R. 50 E., Principal Meridian, Montana.

4. Those rights for an underground telephone cable granted to Nemont Telephone Cooperative, Inc., its successors or assigns, by right-of-way MTM-54795, as to 1.35 acres in lots 7, 8, and 12 of Section 7 and lot 12 of Section 8, T. 27 N., R. 56 E, Principal Meridian, Montana, under the Act of October 21, 1976 (43 U.S.C. 1761).

5. Those rights for a road granted to Prairie County, its successors or assigns, by MTM-99059, as to 12.63 acres in lots 1 thru 4 of Section 5 and lots 2 thru 4 of Section 6, T. 12 N., R. 52 E., Principal Meridian, Montana, under the Act of October 21, 1976 (43 U.S.C. 1761).

6. Those rights for a fiber optic cable granted to Nemont Telephone Cooperative, Inc., its successors or assigns, by right-of-way MTM-105771, as to 1.45 acres in lots 7 and 12 of Section 7 and lot 12 of Section 8, T. 27 N., R. 56 E, Principal Meridian, Montana, under the Act of October 21, 1976 (43 U.S.C. 1761).

The right-of-way holders of MTM-54795, MTM-99059, and MTM-105771 have been afforded the opportunity to modify their existing authorization in accordance with 43 CFR 2807.15. Each of these rights-of-ways will be amended to a permanent easement prior to conveyance of the land to the State.

7. Those rights granted to the Laura Caldwell Irrevocable Trust by Grazing Allotment No. 01441 as to lots 1, 2, 5, and 7, S1/2NE1/4 and S1/2SE1/4 of Section 11 and SW1/4NE1/4, S1/2NW1/4, E1/2SW1/4, and SE1/4 of Section 12 and lots 1 and 2, NE1/4 and N1/2SE1/4 of Section 14, T. 27 N., R. 55 E., Principal Meridian Montana, until March 1, 2023.

8. Those rights granted to the Steppler Ranch by Grazing Allotment No. 01465 as to the W1/2 and S1/2SE1/4 of Section 14 and NE1/4NE1/4, W1/2NE1/4, W1/2, and SE1/4 of Section 23 and S1/2SE1/4 and SW1/4SW1/4 of Section 24 and N1/2 and N1/2SE1/4 of Section 25, T. 27 N., R. 55 E., Principal Meridian Montana, and lot 1 of Section 30, T. 27 N., R.56 E., Principal Meridian Montana, until March 1, 2023.

The subject lands contain grazing leases authorized under Section 15 of the Taylor Grazing Act. The holders of the BLM grazing use authorizations received the required 2-year notices as outlined in 43 CFR 4110.4-2(b) and have agreed to relinquish their authorizations when the land is conveyed. State of Montana procedures provide that upon Land Board Approval, the State will offer 10-year grazing leases to the current holders of BLM permits/leases on any transferred lands.

The subject lands hold permanent range improvements for which the permittees are due reasonable compensation as outlined in Section 402(g) of the Federal Land Policy and Management Act. The holders of these range improvements have been notified and agreed to the reasonable compensation determination and will receive payment once the land is conveyed.

The lands contain no oil and gas, geothermal, or other leases issued under the authority of the Mineral Leasing Act of 1920 (30 U.S.C. 181 et seq.) or the Geothermal Steam Act (30 U.S.C. 1001 et seq.). No mining claims are recorded with the BLM on these lands.

Unless a request for Secretarial review is received, this notice also terminates the proposed classification and segregation on the remaining 8,113.00 acres of the total 16,055.74 acres contained in the State's application, but not needed to fulfill the in-lieu entitlement and described in the proposed classification dated October 17, 2016 (81 FR 71529), as extended by the notice dated November 15, 2017 (82 FR 52937). The lands will be opened to the operation of the public land laws, including location and entry under the United States mining laws, unless a request for review is received, in which case they shall remain classified and segregated. Appropriation of any of the lands prior to the date and time of restoration is unauthorized. Any such attempted appropriation, including attempted adverse possession under 30 U.S.C. 38, shall vest no rights against the United States. Acts required to establish a location and to initiate a right of possession are governed by State law where not in conflict with Federal law. The BLM will not intervene in disputes between rival locators over possessory rights since Congress has provided for such determinations in local courts.

(Authority: 43 CFR parts 2400 and 2621)

Scott Haight,
District Manager, Eastern Montana/Dakotas District.

[FR Doc. 2021-01117 Filed 1-19-21; 8:45 am]

BILLING CODE 4310-DN-P